EQUAL EMPLOYMENT OPPORTUNITY COMMISSION

29 CFR Part 1612

Government in the Sunshine Act Regulations

CFR Correction

In Title 29 of the Code of Federal Regulations, Parts 900 to 1899, revised as of July 1, 2012, on page 266, in § 1612.6 (b) the words “2401 E Street NW., Washington, DC, 20506” are corrected to read “131 M Street NE., Washington, DC 20507”.

[FR Doc. 2012-30802 Filed 12-19-12; 8:45 am]

BILLING CODE 1505-01-D